DEPARTMENT OF EDUCATION

Notice of Proposed Information Collection Requests

AGENCY: Department of Education.

ACTION: Correction notice.

SUMMARY: On November 3, 2006, the Department of Education published a notice in the Federal Register (page 64687, column 3) for the information collection, “Data Collection Instrument and Performance Report for Statewide AT Programs”. This notice hereby corrects the burden hours to 26,768. The IC Clearance Official, Regulatory Information Management Services, Office of the Chief Information Officer, hereby issues a correction notice as required by the Paperwork Reduction Act of 1995.

Dated: November 3, 2006.
Dianne M. Novick,
Acting Leader, Information Policy and Standards Team, Office of Management.

[FR Doc. E6-18979 Filed 11-8-06; 8:45 am]

BILLING CODE 4000-01-P